DEPARTMENT OF TRANSPORTATION

Federal Aviation Administration

Notice of Intent To Rule on Application 05-08-C-00-MSP To Impose and Use the Revenue From a Passenger Facility Charge (PFC) at Minneapolis-St. Paul International Airport, Minneapolis, MN

AGENCY: Federal Aviation Administration (FAA), DOT.

ACTION: Notice of intent to rule on application.

SUMMARY: The FAA proposes to rule and invites pubilc comment on the application to impose and use the revenue from a PFC at Minneapolis-St. Paul International Airport under the provisions of the 49 U.S.C. 40117 and part 158 of the Federal Aviation Regulations (14 CFR part 158).

DATES: Comments must be received on or before March 10, 2005.

ADDRESSES: Comments on this application may be mailed or delivered in triplicate to the FAA at the following address: Federal Aviation Administration, Minneapolis Airports District Office, 6020 28th Avenue South, Room 102, Minneapolis 55450-2706.

In addition, one copy of any comments submitted to the FAA must be mailed or delivered to Mr. Jeffrey W. Hamiel, Executive Director, of the Metropolitan Airports Commission at the following address: Metropolitan Airports Commission, 6040 28th Avenue South, Minneapolis, Minnesota 55450.

Air carriers and foreign air carriers may submit copies of written comments previously provided to the Metropolitan Airports Commission under section 158.23 of part 158.

FOR FURTHER INFORMATION CONTACT: Mr. Gordon Nelson, Program Manager, Federal Aviation Administration, Airports District Office, 6020 28th Avenue South, Room 102, Minneapolis, Minnesota 55450-2706, telephone (612) 713-4358. The application may be reviewed in person at this same location.

SUPPLEMENTARY INFORMATION: The FAA proposes to rule and invites public comment on the application to impose and use the revenue from a PFC at Minneapolis-St. Paul International Airport under the provisions of the 49 U.S.C. 40117 and part 158 of the Federal Aviation Regulations (14 CFR part 158).

On January 28, 2005, the FAA determined that the application to impose and use the revenue from a PFC submitted by the Metropolitan Airports Commission was substantially complete within the requirements of section 158.25 of part 158. The FAA will approve or disapprove the application, in whole or in part, no later than April 28, 2005.

The following is a brief overview of hte application.

Proposed charge effective date: November 1, 2015.

Proposed charge expiration date: April 1, 2019.

Level of the proposed PFC: $3.00.

Total estimated PFC revenue: $30,966,600.

Brief description of proposed projects: (Impose & Use Project) Pavement rehabilitation—aprons. (Impose Only Project) Maintenance building addition.

Level of the proposed PFC: $4.50.

Total estimated PFC revenue: $260,135,064.

Brief description of proposed projects: (Impose & Use Projects) Glycol management facility, Runway 17/35 communications, Runway 17/35 south end construction, Runway 17/35 land acquisition, Runway 17/35 runway protection zone restoration, Taxiway M construction, environmental mitigation, school sound insulation, pavement rehabilitation—Runway 12R/30L segment 2, miscellaneous construction, Navy building relocation, Cat. II system installation—airport lighting electrical center modifications, fire truck replacement. (Impose Only Projects) Taxiway C/D complex, Runway 30R safety area improvements, Air Traffic Control Tower.

Class or classes of air carriers, which the public agency has requested, not be required to collect PFCs: Air Taxi/Commercial Operators (ATCO) filing FAA form 1800-31.

Any person may inspect the application in person at the FAA office listed above under FOR FURTHER INFORMATION CONTACT.

In addition, any person may, upon request, inspect the application, notice and other documents germane to the application in person at the Metropolitan Airports Commission.

Issued in Des Plaines, Illinois, on January 31, 2005.
Barbara Jordan,
Acting Manager, Planning/Programming Branch, Airports Division, Great Lakes Region.

[FR Doc. 05-2315 Filed 2-7-05; 8:45 am]

BILLING CODE 4910-13-M